DEPARTMENT OF ENERGY

Federal Energy Regulatory Commission

18 CFR Parts 375 and 388

[Docket Nos. RM16-15-000, RM15-25-001]

Regulations Implementing FAST Act Section 61003—Critical Electric Infrastructure Security and Amending Critical Energy Infrastructure Information; Availability of Certain North American Electric Reliability Corporation Databases to the Commission; Correction

AGENCY: Federal Energy Regulatory Commission.

ACTION: Final rule; correction.

SUMMARY: This document contains corrections to the final rule (RM16-15-000, RM15-25-001) which published in the Federal Register on Wednesday, December 21, 2016 (81 FR 93732). The final rule amended the Commission's regulations to implement provisions of the Fixing America's Surface Transportation Act that pertain to the designation, protection and sharing of Critical Electric Infrastructure Information.

DATES: Effective January 5, 2017, and is applicable beginning December 21, 2016.

FOR FURTHER INFORMATION CONTACT:

Nneka Frye, Office of the General Counsel, Federal Energy Regulatory Commission, 888 First Street NE., Washington, DC 20426, (202) 502-6029, Nneka.frye@ferc.gov

Christopher MacFarlane, Office of the General Counsel, Federal Energy Regulatory Commission, 888 First Street NE., Washington, DC 20426, (202) 502-6761, Christopher.macfarlane@ferc.gov

Mark Hershfield, Office of the General Counsel, Federal Energy Regulatory Commission, 888 First Street NE., Washington, DC 20426, (202) 502-8597, Mark.hershfield@ferc.gov

SUPPLEMENTARY INFORMATION: On November 17, 2016, the Commission issued a final rule in the above-captioned proceeding. This document corrects Footnote 6 in FR Doc 2016-28322, published in the Federal Register of December 21, 2016 (81 FR 93732), by adding the following citation on page 93733, in the first column: FERC Stats. & Regs. ¶ 32,715.

Issued: December 22, 2016.
Nathaniel J. Davis, Sr.,
Deputy Secretary.

[FR Doc. 2016-31541 Filed 1-4-17; 8:45 am]

BILLING CODE 6717-01-P